DEPARTMENT OF TRANSPORTATION

Federal Aviation Administration

14 CFR Part 71

[Docket No. FAA-2017-1144; Airspace Docket No. 16-AGL-30]

RIN 2120-AA66

Modification of Air Traffic Service (ATS) Routes in the Vicinity of Richmond, IN

AGENCY: Federal Aviation Administration (FAA), DOT.

ACTION: Final rule.

SUMMARY: This action modifies five VHF Omnidirectional Range (VOR) Federal airways (V-12, V-214, V-340, V-467, and V-517) and one low altitude area navigation (RNAV) route (T-213) in the vicinity of Richmond, IN. The FAA is taking this action due to the planned decommissioning of the Richmond, IN, VHF Omnidirectional Range/Tactical Air Navigation (VORTAC) navigation aid (NAVAID) which provides navigation guidance for portions of the affected ATS routes. Overall, this action enhances the safety and management of aircraft within the National Airspace System (NAS).

DATES: Effective date 0901 UTC, September 13, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the NAS route structure as necessary to preserve the safe and efficient flow of air traffic.

History

The FAA published a notice of proposed rulemaking (NPRM) in the Federal Register for Docket No. FAA-2017-1144 (83 FR 1582; January 12, 2018). The NPRM proposed to amend VOR Federal airways V-12, V-214, V-340, V-467, and V-517, and RNAV route T-213, due to the planned decommissioning of the Richmond, IN, VORTAC. Interested parties were invited to participate in this rulemaking effort by submitting written comments on the proposal. One supportive comment was received.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Differences From the NPRM

In the NPRM, the FAA proposed to remove the V-517 airway segment between the Cincinnati, OH, VORTAC and the Dayton, OH, VOR/Distance Measuring Equipment (VOR/DME). That proposed amendment incorrectly listed the state reference for the Cincinnati, KY, VORTAC as “OH” in the proposed amendment and in the regulatory text for V-517. The corrected V-517 amendment is to remove the airway segment between the Cincinnati, KY, VORTAC and the Dayton, OH, VOR/DME and the V-517 regulatory text is to reflect the airway ending at the Cincinnati, KY, VORTAC. This rule corrects the state reference for the Cincinnati, KY, VORTAC.

The Rule

The FAA is amending Title 14, Code of Federal Regulations (14 CFR) part 71 to modify VOR Federal airways V-12, V-214, V-340, V-467, and V-517, and low altitude RNAV route T-213. The planned decommissioning of the Richmond, IN, VORTAC has made these actions necessary. The VOR Federal airway and RNAV T-route changes are outlined below.

V-12: V-12 extends between the Gaviota, CA, VORTAC and the Pottstown, PA, VORTAC. This rule removes the airway segment between the Shelbyville, IN, VOR/Distance Measuring Equipment (VOR/DME) and the Allegheny, PA, VOR/DME. The unaffected portions of the existing airway remain as charted.

V-214: V-214 extends between the Kokomo, IN, VORTAC and the Richmond, IN, VORTAC; and between the intersection of the Appleton, OH, VORTAC 236° and Zanesville, OH, VOR/DME 274° radials (GLOOM fix) and the Teterboro, NJ, VOR/DME. This rule removes the airway segment between the Muncie, IN, VOR/DME and the Richmond, IN, VORTAC. The unaffected portions of the existing airway remain as charted.

V-340: V-340 extends between the intersection of the Peotone, IL, VORTAC 053° and Knox, IN, VOR/DME 297° radials (BEARZ fix) and the Richmond, IN, VORTAC. This rule removes the airway segment between the Fort Wayne, IN, VORTAC and the Richmond, IN, VORTAC. The unaffected portions of the existing airway remain as charted.

V-467: V-467 extends between the Richmond, IN, VORTAC and the Detroit, MI, VOR/DME. This rule removes the airway segment between the Richmond, IN, VORTAC and the Waterville, OH, VOR/DME. The unaffected portion of the existing airway remains as charted.

V-517: V-517 extends between the Snowbird, TN, VORTAC and Dayton, OH, VOR/DME. This rule removes the airway segment between the Cincinnati, KY, VORTAC and the Dayton, OH, VOR/DME. The unaffected portions of the existing airway remain as charted.

T-213: T-213 extends between the Louisville, KY, VORTAC and Richmond, IN, VORTAC. This rule removes the VOR portion of the Richmond, IN, VORTAC from service and retains the Richmond, IN, DME equipment, with the same three-letter identifier, in service at the same location. Additionally, the VORTAC and DME three-letter identifiers are added to the first line of the RNAV route description. The existing RNAV route remains as charted.

All radials in the route descriptions are unchanged and stated in True degrees.

VOR Federal airways are published in paragraph 6010(a), and United States Area Navigation Routes (low altitude T-routes) are published in paragraph 6011, of FAA Order 7400.11B dated August 3, 2017, and effective September 15, 2017, which is incorporated by reference in 14 CFR 71.1. The VOR Federal airways and RNAV T-route listed in this document will be subsequently published in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying five VOR Federal airways and one low altitude RNAV route qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, the FAA has reviewed this action for factors and circumstances in which a normally categorically excluded action may have a significant environmental impact requiring further analysis. The FAA determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a) Domestic VOR Federal Airways.

* * * * *

V-12 [Amended]

From Gaviota, CA; San Marcus, CA; Palmdale, CA; 38 miles, 6 miles wide, Hector, CA; 12 miles, 38 miles, 85 MSL, 14 miles, 75 MSL, Needles, CA; 45 miles, 34 miles, 95 MSL, Drake, AZ; Winslow, AZ; 30 miles, 85 MSL, Zuni, NM; Albuquerque, NM; Otto, NM; Anton Chico, NM; Tucumcari, NM; Amarillo, TX; Mitbee, OK; Anthony, KS; Wichita, KS; Emporia, KS; INT Emporia 063° and Napoleon, MO, 243° radials; Napoleon; INT Napoleon 095° and Columbia, MO, 292° radials; Columbia; Foristell, MO; Troy, IL; Bible Grove, IL; to Shelbyville, IN. From Allegheny, PA; Johnstown, PA; Harrisburg, PA; INT Harrisburg 092° and Pottstown, PA, 278° radials; to Pottstown.

* * * * *

V-214 [Amended]

From Kokomo IN, Marion, IN; to Muncie, IN. From INT Appleton, OH, 236° and Zanesville, OH, 274° radials; Zanesville; Bellaire, OH; INT Bellaire 107° and Grantsville, MD, 285° radials; Grantsville; Martinsburg, WV; INT Martinsburg 094° and Baltimore, MD, 300° radials; Baltimore; INT Baltimore 093° and Dupont, DE, 223° radials; Dupont; Yardley, PA; to Teterboro, NJ.

* * * * *

V-340 [Amended]

From INT Peotone, IL, 053° and Knox, IN, 297° radials; Knox; to Fort Wayne, IN.

* * * * *

V-467 [Amended]

From Waterville, OH; to Detroit, MI.

* * * * *

V-517 [Amended]

From Snowbird, TN; INT Snowbird 329° and London, KY, 141° radials; London; INT London 004° and Falmouth, KY, 164° radials; Falmouth; to Cincinnati, KY.

* * * * *

Paragraph 6011 United States Area Navigation Routes

* * * * *

T-213 Louisville, KY (IIU) to Richmond, IN (RID) [Amended]
Louisville, KY (IIU) | VORTAC | (Lat. 38°06′13″ N, long. 85°34′39″ W)
GAMKE, IN | WP | (Lat. 38°46′13″ N, long. 85°14′35″ W)
MILAN, IN | FIX | (Lat. 39°21′22″ N, long. 85°19′01″ W)
Richmond, IN (RID) | DME | (Lat. 39°45′18″ N, long. 84°50′20″ W)

* * * * *

Issued in Washington, DC, on May 21, 2018.
Rodger A. Dean Jr.,
Manager, Airspace Policy Group.

[FR Doc. 2018-11327 Filed 5-25-18; 8:45 am]

BILLING CODE 4910-13-P